DEPARTMENT OF HEALTH AND HUMAN SERVICES

Administration for Children and Families

Submission for OMB Review; Tribal Maternal, Infant, and Early Childhood Home Visiting Program: Guidance for Submitting an Annual Report to the Secretary (OMB #0970-0409)

AGENCY: Office of Child Care, Administration for Children and Families, HHS.

ACTION: Request for public comment.

SUMMARY: The Administration for Children and Families (ACF), Office of Child Care (OCC) is requesting a 3-year extension of the Tribal Maternal, Infant, and Early Childhood Home Visiting (MIECHV) Program: Guidance for Submitting an Annual Report to the Secretary (OMB #0970-0409; expiration 9/30/2021). There are minor updates to the annual guidance which reflects a change in timing for the due date of the final report.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: Section 511(e)(8)(A) of Title V of the Social Security Act requires that grantees under the MIECHV program for states and jurisdictions submit an annual report to the Secretary of Health and Human Services regarding the program and activities carried out under the program, including such data and information as the Secretary shall require. Section 511(h)(2)(A) further states that the requirements for the MIECHV grants to tribes, tribal organizations, and urban Indian organizations are to be consistent, to the greatest extent practicable, with the requirements for grantees under the MIECHV program for states and jurisdictions.

OCC, in collaboration with the Health Resources and Services Administration, Maternal and Child Health Bureau awarded grants for the Tribal MIECHV Program (Tribal Home Visiting) to support cooperative agreements to conduct community needs assessments; plan for and implement high-quality, culturally-relevant, evidence-based home visiting programs in at-risk tribal communities; establish, measure, and report on progress toward meeting performance measures in six legislatively-mandated benchmark areas; and conduct rigorous evaluation activities to build the knowledge base on home visiting among Native populations.

After the first grant year, Tribal Home Visiting grantees must comply with the requirement to submit an Annual Report to the Secretary that should feature activities carried out under the program during the past reporting period, and a final report to the Secretary during the final year of their grant. To assist grantees with meeting these requirements, ACF created guidance for grantees to use when writing their reports. The guidance specifies that grantees must address the following:

• Update on Home Visiting Program Goals and Objectives

• Update on the Implementation of Home Visiting Program in Targeted Community(ies)

• Progress toward Meeting Legislatively Mandated Benchmark Requirements

• Update on Rigorous Evaluation Activities

• Home Visiting Program Continuous Quality Improvement (CQI) Efforts

• Update on dissemination activities

• Administration of Home Visiting Program

• Technical Assistance Needs

Previously, the guidance included information about both the annual and the final reports from grantees. This extension request includes updates to the guidance to make it specific to just the annual reports. Guidance specific to the final report will be submitted for review and approval by OMB in the future. A comment period will accompany that request.

Respondents: Tribal Home Visiting Managers (information collection does not include direct interaction with individuals or families that receive the services).

Annual Burden Estimates
Instrument | Total number of respondents | Annual number of responses per respondent | Average burden hours per response | Annual burden hours
Annual Report to the Secretary | 23 | 1 | 25 | 575

Estimated Total Annual Burden Hours: 575.

Authority: Title V of the Social Security Act, Sections 511(e)(8)(A) and 511(h)(2)(A).

Mary B. Jones,
ACF/OPRE Certifying Officer.

[FR Doc. 2021-17773 Filed 8-18-21; 8:45 am]

BILLING CODE 4184-43-P